DEPARTMENT OF DEFENSE

Office of the Secretary

32 CFR Part 362

[DoD Directive 5105.19]

Defense Information Systems Agency (DISA)

AGENCY: Department of Defense.

ACTION: Final rule.

SUMMARY: This document removes part 362, “Defense Information Systems Agency (DISA)” presently in Title 32 of the Code of Federal Regulations. This part has served the purpose for which it was intended in the CFR and is no longer necessary.

EFFECTIVE DATE: August 2, 2006.

FOR FURTHER INFORMATION CONTACT: L.M. Bynum (703) 696-4970.

SUPPLEMENTARY INFORMATION: This part 362 is removed to as a part of a DoD exercise to remove organizational charters from the CFR because they have no impact on the public. The revised DoD Directive 5105.19 is available at http://www.dtic.mil/whs/directives/corres/html/510519.htm.

List of Subjects in 32 CFR Part 362

Organizations.

PART 362—[REMOVED]

Accordingly, by the authority of 10 U.S.C. 301, 32 CFR part 362 is removed.

Dated: July 27, 2006.
L.M. Bynum,
OSD Federal Register Liaison Officer, Department of Defense.

[FR Doc. 06-6637 Filed 8-1-06; 8:45 am]

BILLING CODE 5001-06-M